DEPARTMENT OF COMMERCE

Foreign-Trade Zones Board

[B-35-2012]

Foreign-Trade Zone 220—Sioux Falls, SD; Application for Reorganization and Expansion Under Alternative Site Framework

An application has been submitted to the Foreign-Trade Zones (FTZ) Board (the Board) by the Sioux Falls Development Foundation, grantee of FTZ 220, requesting authority to reorganize and expand the zone under the alternative site framework (ASF) adopted by the Board (15 CFR Sec. 400.2(c)). The ASF is an option for grantees for the establishment or reorganization of general-purpose zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 7, 2012.

FTZ 220 was approved by the Board on April 8, 1997 (Board Order 882, 62 FR 18740, 04/17/1997). The current zone project includes the following sites: Site 1 (130 acres)—Joe Foss Field, 2801 Jaycee Lane, Sioux Falls; Site 2 (123 acres)—Sioux Falls Development Foundation Park III, 4th Avenue North, Sioux Falls; Site 3 (115 acres)—Sioux Falls Development Foundation Park IV, East Benson Road and Interstate 229, Sioux Falls; Site 4 (7 acres, 2 parcels)—Burns Moving & Storage Facility, 4205 North 4th Avenue and North 2nd Avenue and 54th Street, Sioux Falls; Site 5 (7 acres, 2 parcels)—Parker Transfer and Storage, Inc., 1700 F Avenue and 3703 West Tickman Street, Sioux Falls; and, Site 6 (10 acres)—Nordica Warehouse, Inc., 801 South 6th Avenue, Sioux Falls.

The grantee's proposed service area under the ASF would be Bon Homme, Brookings, Clay, Davison, Duel, Hamlin, Hanson, Hutchinson, Kingsbury, Lake, Lincoln, McCook, Miner, Minnehaha, Moody, Sanborn, Turner, Union and Yankton Counties, South Dakota, as described in the application. If approved, the grantee would be able to serve sites throughout the service area based on companies' needs for FTZ designation. The proposed service area is within and adjacent to the Sioux Falls U.S. Customs and Border Protection port of entry.

The applicant is requesting authority to reorganize its existing zone project to include existing Sites 1-3 as “magnet” sites and existing Site 4-6 as “usage-driven” sites. The ASF allows for the possible exemption of one magnet site from the “sunset” time limits that generally apply to sites under the ASF, and the applicant proposes that Site 2 be so exempted. As part of the reorganization under the ASF, the applicant is requesting authority to remove a non-contiguous parcel from Site 5 to create a new usage-driven site: Proposed Site 7 (3.3 acres)—Parker Transfer and Storage, Inc., 3703 West Tickman Street, Sioux Falls. The applicant is also requesting approval of the following “usage-driven” site: Proposed Site 8 (15.03 acres)—Rosenbauer America, LLC/Rosenbauer South Dakota, LLC, 100 Third Street, Lyons, South Dakota.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is July 10, 2012. Rebuttal comments in response to material submitted during the foregoing period may be submitted during the subsequent 15-day period to July 25, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: May 7, 2012.
Elizabeth Whiteman,
Acting Executive Secretary.

[FR Doc. 2012-11471 Filed 5-10-12; 8:45 am]

BILLING CODE P